SECURITIES AND EXCHANGE COMMISSION

[Release No. 34-48819; File No. SR-NSCC-2003-01]

Self-Regulatory Organizations; National Securities Clearing Corporation; Notice of Withdrawal of a Proposed Rule Change Relating to New Rule 59, “Information Services for Investment Products”

November 21, 2003.

On January 17, 2003, National Securities Clearing Corporation (“NSCC”) submitted to the Securities and Exchange Commission (“Commission”) a proposed rule change pursuant to Section 19(b)(1) of the Securities Exchange Act of 1934 (“Act”)¹ to allow NSCC to provide information services for investment products. The proposed rule change was published in the Federal Register on April 17, 2003.² One comment letter was received.³ On June 27, 2003, NSCC withdrew the proposed rule change.⁴

¹ 15 U.S.C. 78s(b)(1).

² Securities Exchange Act Release No. 47662 (April 10, 2003), 68 FR 19047.

³ Letter from Margaret A. Sheehan, Alston & Bird LLP, on behalf of CheckFree Corporation (May 9, 2003).

⁴ Letter from Carol A. Jameson, Vice President and Senior Counsel, NSCC, to Jerry Carpenter, Assistant Director, Division of Market Regulation, Commission (June 26, 2003).

For the Commission by the Division of Market Regulation, pursuant to delegated authority.⁵
⁵ 17 CFR 200.30-3(a)(12).
Margaret H. McFarland,
Deputy Secretary.

[FR Doc. 03-30061 Filed 12-2-03; 8:45 am]

BILLING CODE 8010-01-P